DEPARTMENT OF HEALTH AND HUMAN SERVICES

[Document Identifier: CMS-10295, CMS-10234, CMS-10303, CMS-10066 and CMS-R-193]

Centers for Medicare & Medicaid Services

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Recovery Act—Reporting Requirements for States Under FMAP Increase and TMA Provisions; Use: The American Recovery and Reinvestment Act of 2009 (Recovery Act), Public Law 111-5, requires that States submit quarterly reports to the Secretary of Health and Human Services in accordance with section 5001 Temporary Increase of Medicaid Federal Medical Assistance Percentage (FMAP) and section 5004(d) Extension of Transitional Medical Assistance (TMA). The reports under section 5001 are required for the period of October 1, 2008-September 30, 2011. The reports under section 5004 are required beginning on July 1, 2009 until the Federal authority for TMA coverage sunsets (now scheduled to sunset on December 31, 2010). Each State Medicaid agency will submit its quarterly reports to the appropriate Regional Office of CMS. The reports will be compiled and summarized for annual reports to Congress. Form Number: CMS-10295 (OMB#: 0938-1073); Frequency: Reporting—Quarterly; Affected Public: State, Local, or Tribal Governments; Number of Respondents: 50; Total Annual Responses: 200; Total Annual Hours: 600. (For policy questions regarding this collection contact Richard Strauss at 410-786-2019. For all other issues call 410-786-1326.)

2. Type of Information Collection Request: Extension of a currently approved collection; Title of Information Collection: State Plan Pre-print implementing Section 6087 of the Deficit Reduction Act: Optional Self-Direction Personal Assistance Services (PAS) Program (Cash and Counseling); Form Number: CMS-10234 (OMB#: 0938-1024); Use: Information submitted via the State Plan Amendment (SPA) pre-print is used by CMS and Regional Offices to analyze a State's proposal to implement Section 6087 of the Deficit Reduction Act (DRA). State Medicaid Agencies will complete the SPA pre-print, and submit it to CMS for a comprehensive analysis. The pre-print contains assurances, check-off items, and areas for States to describe policies and procedures for subjects such as quality assurance, risk management, and voluntary and involuntary disenrollment; Frequency: Reporting—Once; Affected Public: State, Local, or Tribal Government; Number of Respondents: 56; Total Annual Responses: 20; Total Annual Hours: 400. (For policy questions regarding this collection contact Carrie Smith at 410-786-4485. For all other issues call 410-786-1326.)

3. Type of Information Collection Request: New collection; Title of Information Collection: Medicare Gainsharing Demonstration Evaluation: Physician Focus Groups; Use: The proposed physician focus groups are part of an overall evaluation of the Centers for Medicare & Medicaid Services CMS' congressionally mandated Medicare Gainsharing Demonstration Evaluation. The Congress, under Section 5007 of the Deficit Reduction Act (DRA) of 2005, requires CMS to conduct a qualified gainsharing program to test alternative ways that hospitals and physicians can share in efficiency gains. The primary goal of the demonstration is to evaluate gainsharing as a means to align physician and hospital incentives to improve quality and efficiency. The demonstration has two mandated Reports to Congress. Results from physician focus groups will be included in both Reports to Congress. Form Number: CMS-10303 (OMB#: 0938-New); Frequency: Once; Affected Public: Private Sector, Business or other for profits; Number of Respondents: 192; Total Annual Responses: 96; Total Annual Hours: 96. (For policy questions regarding this collection contact William Buczko at 410-786-6593. For all other issues call 410-786-1326.)

4. Type of Information Collection Request: Extension of a currently approved collection; Title of Information Collection: Detailed Notice of Discharge (DND); Use: A beneficiary/enrollee who wishes to appeal a determination by a Medicare health plan or hospital that inpatient care is no longer necessary, may request Quality Improvement Organization (QIO) review of the determination. On the date the QIO receives the beneficiary's/enrollee's request, it must notify the plan and hospital that the beneficiary/enrollee has filed a request for an expedited determination. The plan (for a managed care enrollee) or hospital (for an original Medicare beneficiary), in turn, must deliver a detailed notice to the enrollee/beneficiary. Form Number: CMS-10066 (OMB#: 0938-1019); Frequency: Reporting—Yearly; Affected Public: Business or other for-profits and Not-for-profit institutions; Number of Respondents: 6,163; Total Annual Responses: 13,218; Total Annual Hours: 13,218. (For policy questions regarding this collection contact Evelyn Blaemire at 410-786-1803. For all other issues call 410-786-1326.)

5. Type of Information Collection Request: Revision of a currently approved collection; Title of Information Collection: Important Message from Medicare (IM); Use: Requirements that hospitals notify beneficiaries in inpatient hospital settings of their rights as a hospital patient including their discharge appeal rights are referenced in Section 1866 of the Social Security Act (the Act). The authority for the right to an expedited determination is set forth at Sections 1869 and 1154 of the Act.

The hospital must deliver valid, written notice (the IM) of a patient's rights as a hospital patient including the discharge appeal rights, within 2 calendar days of admission. A follow-up copy of the signed IM is given again as far as possible in advance of discharge, but no more than 2 calendar days before. Follow-up notice is not required if provision of the admission IM falls within 2 calendar days of discharge. The collection has been revised to include documentation of the time when the beneficiary signs the document when it is delivered initially and as a follow-up copy. Form Number: CMS-R-193 (OMB#: 0938-1019); Frequency: Reporting—Yearly; Affected Public: Business or other for-profits and Not-for-profit institutions; Number of Respondents: 3,193; Total Annual Responses: 13,218; Total Annual Hours: 19,680,000. (For policy questions regarding this collection contact Evelyn Blaemire at 410-786-1803. For all other issues call 410-786-1326.)

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on May 19, 2010: OMB, Office of Information and Regulatory Affairs, Attention: CMS Desk Officer, Fax Number: (202) 395-6974, E-mail: OIRA_submission@omb.eop.gov.

Dated: April 9, 2010.
Michelle Shortt,
Director, Regulations Development Group, Office of Strategic Operations and Regulatory Affairs.

[FR Doc. 2010-8900 Filed 4-16-10; 8:45 am]

BILLING CODE 4120-01-P